DEPARTMENT OF HEALTH AND HUMAN SERVICES

Centers for Disease Control and Prevention

[30Day-05-0212]

Proposed Data Collections Submitted for Public Comment and Recommendations

The centers for Disease Control and Prevention (CDC) publishes a list of information collection requests under review by the Office of Management and Budget (OMB) in compliance with the Paperwork Reduction Act (44 U.S.C. chapter 35). To request a copy of these requests, call the CDC Reports Clearance Officer at (404) 371-5983 or send an email to omb@cdc.gov. Send written comments to CDC Desk Officer, Human Resources and Housing Branch, New Executive Office Building, Room 10235, Washington, DC 20503 or by fax to (202) 395-6974. Written comments should be received within 30 days of this notice.

Proposed Project

National Hospital Discharge Survey (OMB No. 0920-0212)—Revision—National Center for Health Statistics (NCHS), Centers for Disease Control and Prevention (CDC).

Background and Brief Description

The National Hospital Discharge Survey (NHDS) has been conducted continuously by CDC, National Center for Health Statistics since 1965. It is the principal source of data on inpatient utilization of short-stay, non-Federal hospitals and is the only annual source of nationally representative estimates on the characteristics of discharges, the lengths of stay, diagnosis, surgical and non-surgical procedures, and the patterns of use of care in hospitals in various regions of the country. It is the benchmark against which special programmatic data sources are compared. Data collected through the NHDS are essential for evaluating the health status of the population, planning of programs and policy to elevate the health status of the Nation, studying morbidity trends, and research activities in the health field. NHDS data have been used extensively in the development and monitoring of goals for the Year 2000 and 2010 Health Objectives. In addition, NHDS data provide annual updates for numerous tables in the Congressionally-mandated NCHS report, Health, United States.

Data for the NHDS are collected annually on approximately 300,000 discharges from a nationally representative sample of non-institutional hospitals exclusive of Federal, military and Veterans' Administration hospitals. The data items collected are the basic core of variables contained in the Uniform Hospital Discharge Data Set (UHDDS) in addition to two data items (admission type and source) which are identical to those needed for billing of inpatient services for Medicare patients. in the 2003 NHDS 426 hospitals participated. Data for approximately forty-four percent of the responding hospitals (186) are abstracted from medical records. The remaining hospitals supply data through in-house tapes or printouts (80 hospitals) or are hospitals that belong to commercial abstract service organizations or state data systems (160 hospitals) from which electronic data files are purchased. There is no actual cost to respondents since hospital staff who actively participate in the data collection effort are compensated by the government for their time. The total estimated annualized burden hours are 2,131.

Estimate of Annualized Burden Hours
Medical record abstracts | Number of respondents (hospitals) | Number of responses/respondent | Avg. burden/response (in hrs.)
Primary Procedure Hospitals | 62 | 250 | 5/60
Alternate Procedure Hospitals | 124 | 250 | 1/60
In-House Tape or Printout Hospitals | 80 | 12 | 12/60
Induction Forms | 15 | 1 | 2
Non-response Study | 50 | 1 | 2

Dated: July 20, 2005.
Betsey Dunaway,
Acting Reports Clearance Officer, Centers for Disease Control and Prevention.

[FR Doc. 05-14787 Filed 7-26-05; 8:45 am]

BILLING CODE 4163-18-M